DEPARTMENT OF ENERGY

Federal Energy Regulatory Commission

[Project No. 2302-101]

Brookfield White Pine Hydro LLC; Notice of Application Accepted for Filing, Scoping Meetings, and Environmental Site Review; Soliciting Motions To Intervene and Protests; and Soliciting Scoping Comments

Take notice that the following application has been filed with the Commission and is available for public inspection.

a. Type of Application: New Major License.

b. Project No.: P-2302-101.

c. Date filed: August 28, 2024.

d. Applicant: Brookfield White Pine Hydro LLC.

e. Name of Project: Lewiston Falls Hydroelectric Project (project).

f. Location: On the Androscoggin River in the Cities of Lewiston and Auburn, and the Town of Durham, Androscoggin County, Maine.

g. Filed Pursuant to: Federal Power Act 16 U.S.C. 791(a)-825(r).

h. Applicant Contact: Luke T. Anderson, Brookfield Renewable, 150 Main Street, Lewiston, Maine 04240; (207) 755-5613; email at Luke.Anderson@brookfieldrenewable.com.

i. FERC Contact: Lauren Townson at (202) 502-8572, or Lauren.Townson@ferc.gov.

j. Deadline for filing scoping comments and motions to intervene and protests: March 31, 2025.

The Commission strongly encourages electronic filing. Please file scoping comments and motions to intervene and protests using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Lewiston Falls Project (P-2302-101).

The Commission's Rules of Practice and Procedure require all intervenors filing documents with the Commission to serve a copy of that document on each person on the official service list for the project. Further, if an intervener files comments or documents with the Commission relating to the merits of an issue that may affect the responsibilities of a particular resource agency, they must also serve a copy of the document on that resource agency.

k. This application has been accepted for filing, but is not ready for environmental analysis at this time.

l. Project Description: The Lewiston Falls Project consists of: (1) a dam consisting of 5 distinct sections: (a) a 154-foot-long stone masonry section topped with a single rubber dam for a total elevation of 169.07 feet, (b) a 279-foot-long stone masonry section topped with a single rubber dam for a total elevation of 169.07 feet, (c) a 161-foot-long stone masonry section topped with a single rubber dam for a total elevation of 168.60 feet, (d) a 162-foot-long stone masonry section topped with a single rubber dam for a total elevation of 168.60 feet, and (e) a 57-foot-long concrete section topped with 1.34-foot-high flashboards for a total elevation of 168.17 feet; (2) a 2.5-mile-long, 169-acre impoundment at a full pond elevation of 168.17 feet; (3) an 85.16-foot-long, 60-foot-high reinforced concrete intake with 3.25-inch spaced trashracks; (4) four 16.8-foot wide intake tubes, each pair converging into one; (4) a reinforced concrete powerhouse containing two vertical Kaplan turbine generators for a total installed capacity of 28.44 megawatts; (5) a 400-foot-long, 75-foot-wide excavated tailrace; (6) a 111.6-foot-long, 26.3-foot-wide masonry canal gatehouse located at the southeast corner of the impoundment diverting flow to a canal system; (7) a 12.5 to 34.5-kilovolt (kV) transformer; (8) a 125-foot-long underground transmission line connected to Central Maine Power's distribution system; and (8) appurtenant facilities. The project average annual generation between 2013 and 2023 was 157,614 megawatt-hours (MWh).

Brookfield currently operates the project in a run-of-river mode by typically limiting impoundment drawdowns to no more than 1 foot below the normal elevation of 168.17 feet. However, the project is licensed to operate with up to four feet of impoundment drawdowns. The current license requires Brookfield to release a minimum flow of 1,430 cfs or inflow, whichever is less. Brookfield states that it meets this requirement by releasing 50 cfs from the impoundment to the Lewiston Canal System and 1,380 cfs to the river downstream of the project. The maximum hydraulic capacity of the project's generating units is 6,600 cfs and the minimum hydraulic capacity of a single unit is approximately 800 cfs.

The licensee is proposing to remove an existing building from the project boundary. The building is a non-project facility and is located near the Canal Gatehouse. The building is privately owned and serves no project purpose, according to Brookfield's application. In total, this change will remove 0.08 acre from the project boundary, resulting in a total of 237.88 acres remaining within the project boundary.

m. A copy of the application can be viewed on the Commission's website at https://www.ferc.gov using the “eLibrary” link. Enter the docket number excluding the last three digits in the docket number field to access the document. For assistance, please contact FERC Online Support (see item j above).

You may also register at https://ferconline.ferc.gov/FERCOnline.aspx to be notified via email of new filings and issuances related to this or other pending projects. For assistance, please contact FERC Online Support (see item j above).

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

p. The Commission's scoping process will help determine the required level of analysis and satisfy the National Environmental Policy Act (NEPA) scoping requirements, irrespective of whether the Commission issues an environmental assessment or an environmental impact statement.

Scoping Meetings

In addition to written comments solicited by this notice, Commission staff will hold two public scoping meetings at the times and locations noted below. All interested individuals, resource agencies, Native American Tribes, and NGOs are invited to attend any of the meetings to assist Commission staff in identifying the scope of environmental issues that should be analyzed in the NEPA document.

The times and locations of these meetings are as follows:

Daytime Scoping Meeting

Date: February 19, 2025.

Time: 9 a.m. to 11 a.m. EST.

Location: Hampton Inn Lewiston/Auburn Hotel.

Address: 15 Lincoln Street, Lewiston, Maine 04240.

Evening Scoping Meeting

Date: February 19, 2025.

Time: 7 p.m. to 10 p.m. EST.

Location: Hampton Inn Lewiston/Auburn Hotel.

Address: 15 Lincoln Street, Lewiston, Maine 04240.

Scoping Document 1 (SD1), which outlines the subject areas to be addressed in the environmental document, was mailed to the individuals and entities on the Commission's mailing list. Copies of SD1 will be available at the scoping meetings, or may be viewed on the web at https://www.ferc.gov, using the “eLibrary” link. Follow the directions for accessing information in paragraph m.

Environmental Site Review

Brookfield White Pine and Commission staff will conduct an environmental site review of the project beginning at 8 a.m. on February 20, 2025. We recommend meeting at the Hampton Inn Lewiston/Auburn Hotel (located at 15 Lincoln Street, Lewiston, Maine 04240) to carpool to project.

All interested individuals, resource agencies, Native American Tribes, and NGOs are invited to attend the site review. Attendees should wear appropriate outdoor clothing and footwear. Persons planning on participating in the site visit must RSVP to Mr. Luke Anderson of Brookfield at luke.anderson@brookfieldrenewable.com or by phone at (207) 755-5613, no later than February 10, 2025, to register for the environmental site review.

Meeting Procedures

Individuals, NGOs, Native American Tribes, and agencies with environmental expertise and concerns are encouraged to attend the meetings and to assist the staff in defining and clarifying the issues to be addressed in the NEPA document. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time. Please see appendix 1 for additional information on the session format and conduct.¹

¹ The appendix referenced in this notice will not appear in the Federal Register. Copies of the appendix were sent to all those receiving this notice in the mail and are available at https://www.ferc.gov using the “eLibrary” link. For assistance, please contact FERC Online Support at FERCOnlineSupport@ferc.gov or call (866) 208-3676 (toll free), or (202) 502-8659 (TTY).

Scoping comments will be recorded by the court reporter and become part of the public record for this proceeding. Transcripts will be publicly available on FERC's eLibrary system. If a significant number of people are interested in providing oral comments in the one-on-one settings, a time limit of 5 minutes may be implemented for each commentor.

It is important to note that the Commission provides equal consideration to all comments received, whether filed in writing or provided orally at a scoping session. Although there will not be a formal presentation, Commission staff will be available throughout the scoping session to answer your questions about the environmental review process. Representatives from White Pine will also be present to answer project-specific questions.

q. Procedural schedule: The application will be processed according to the following anticipated processing schedule. Revisions to the schedule will be made as appropriate. The schedule for issuing draft and final NEPA documents is consistent with the Commission's Notice of Revised Schedule issued November 15, 2023:

Scoping Document 1 Issued—January 2025

Acceptance and Scoping Notice Issued—January 2025

Scoping Document 1 Comments Due—March 2025

Issue Scoping Document 2 (if needed)—April 2025

Issue Notice of Ready for Environmental Analysis—August 2025

Comments, Recommendations and Agency Terms and Conditions/Prescriptions Due—October 2025

Applicant's Reply Comments Due—November 2025

Commission Issues Draft NEPA Document—April 2026

Commission Issues Final NEPA Document—October 2026

Dated: January 29, 2025.
Debbie-Anne A. Reese,
Secretary.

[FR Doc. 2025-02225 Filed 2-4-25; 8:45 am]

BILLING CODE 6717-01-P